DEPARTMENT OF TRANSPORTATION

Federal Transit Administration

Solicitation of Proposals for the National Aging and Disability Transportation Center

AGENCY: Federal Transit Administration (FTA), DOT.

ACTION: Notice of funding opportunity.

SUMMARY: The Federal Transit Administration (FTA) is soliciting proposals under FTA's Technical Assistance and Workforce Development Program, to select an entity to administer the National Aging and Disability Transportation Center (NADTC). The NADTC will carry out activities to promote the availability and accessibility of transportation options that serve the needs of people with disabilities, seniors, and their caregivers, with a focus on effectively leveraging the program funds of the Enhanced Mobility of Seniors and Individuals with Disabilities Formula grants and other transit investments. The NADTC provides effective solutions that improve mobility for seniors and individuals with disabilities throughout the country by helping systems remove barriers to transportation services and expanding community transportation mobility options. The FTA intends to fund the NADTC up to $1,900,000, for the first year, subject to availability of funds. The FTA may extend funding for this center for up to five (5) years; however, subsequent funding will depend upon: (1) Future authorizations and appropriations; (2) decisions and program priorities established by the Secretary of Transportation related to the implementation of provisions set forth in 49 U.S.C. 5314; and (3) annual performance reviews.

DATES: Complete proposals for funding opportunity FTA-2020-009-NADTC must be submitted electronically through GRANTS.GOV. All applications must be received by 11:59 p.m. Eastern time on July 2, 2020.

FOR FURTHER INFORMATION CONTACT: Elan Flippin, FTA Office of Program Management, (202) 366-3800 or Elan.flippin@dot.gov.

SUPPLEMENTARY INFORMATION:

Table of Contents

A. Program Description

B. Federal Award Information

C. Eligibility Information

D. Application and Submission Information

E. Application Review Information

F. Federal Award Administration Information

G. Federal Awarding Agency Contact(s)

A. Program Description

The FTA is soliciting proposals to administer the National Aging and Disability Transportation Center (NADTC). The mission of the NADTC is to promote the availability and accessibility of transportation options for older adults, people with disabilities, caregivers and communities. The need for accessible transportation that supports independent community living is growing in the United States. The U.S. Census Bureau American Community Survey in 2018 estimated that 12.6 percent of the U.S. population (40.6 million) living in the community has a disability. The population age 65 and over was 52 million in 2018, 16 percent of the population. Employment and poverty rates disproportionately negatively affect people with disabilities and older adults. Investment in accessible public transportation, including the over $280 million in funding provided annually through the Enhanced Mobility of Seniors and People with Disabilities Program (Section 5310), is an important enabler of the American dream for many people. The NADTC makes a significant difference in helping communities enhance the benefits of public transportation, including high impact Section 5310 projects that improve mobility for people with disabilities and older adults.

The work of the NADTC builds upon the work of the Coordinating Council on Access and Mobility (CCAM), promoting coordination to ensure older adults, people with disabilities, people of low income, and disadvantaged communities benefit from coordinated planning activities and the resulting projects. The NADTC carries out activities that demonstrate impact and achieve the following goals:

• Promoting the essential role of accessible transportation in furthering the economic inclusion, access to healthcare, links to education, connections to recreation/leisure activities, and independent living of people with disabilities and older adults;

• Increasing the effectiveness, efficiency and quality of coordinated human service transportation activities;

• Ensuring that the planning of transportation services for people with disabilities, older adults and caregivers is done in conjunction with broader planning activities at all levels;

• Highlighting and assisting in the development of promising practices, including the use of technology, to solve transportation challenges for people with disabilities and older adults and maximizing the effectiveness of Federal investments in specialized transportation services. For more information on the various programs and services currently provided by the NADTC, visit the NADTC website at: https://www.nadtc.org/.

B. Federal Award Information

FTA intends to fund the NADTC through a cooperative agreement at up to $1,900,000 for the first year with the option to extend for up to four (4) additional years. FTA's decision to exercise these options is subject to: (1) Decisions and program priorities established by the Secretary of Transportation related to the implementation of the Technical Assistance and Workforce Development program (49 U.S.C. 5314); (2) future authorizations and appropriations; and (3) annual reviews of the NADTC's performance.

C. Eligibility Information

1. Eligible Applicants

Eligible applicants are non-profit organizations with experience in the delivery of programs and services that seek to serve the targeted population of older adults and people with disabilities; experience in public transportation-related technical assistance; and the organizational capacity to administer a national technical assistance center program.

2. Cost Sharing or Matching

This funding opportunity will be awarded under the terms of a cooperative agreement. The federal share is 100 percent. There is no required local matching share.

D. Application and Submission Information

1. Address To Request Application Package

Applications must be submitted electronically through GRANTS.GOV, as described above. General information for registering and submitting applications through GRANTS.GOV can be found at https://www.grants.gov/web/grants/applicants.html along with specific instructions for the forms and attachments required for submission. Mail and fax submissions will not be accepted. A complete proposal submission will consist of at least two files: (1) The SF-424 Mandatory form (downloaded from GRANTS.GOV), and (2) a narrative application document in Microsoft Word, Adobe Acrobat, or compatible file format. The narrative application should be in the format outlined in section 2 below. Once completed, the narrative application must be placed in the attachments section of the SF-424 Mandatory form. Applicants must attach the narrative application file to their submission in GRANTS.GOV to successfully complete the proposal process. A proposal submission may contain additional supporting documentation as attachments.

2. Content and Form of Application Submission

Proposals shall be submitted in a Microsoft Word, Adobe Acrobat, or compatible file format, double-spaced using Times New Roman, 12-point font. The proposal must contain the following components and adhere to the specified maximum lengths:

a. Cover sheet (1 page).

The cover sheet must include the name of the entity submitting the proposal, the principal's name, title, and contact information (e.g., address, phone, and email), and the name and contact information for the key point of contact for each function of the agreement referenced under the “Program Description” section of this Notice.

b. Abstract (not to exceed 4 pages).

The abstract must include the following sections: Background, purpose, methodology, intended outcomes, and plan for evaluation.

c. Detailed budget proposal and budget narrative (not to exceed 3 pages).

d. Project narrative (not to exceed 25 pages).

The project narrative must include the following information:

i. The methodology for addressing the goals and objectives;

ii. Objectives, activities, deliverables, milestones, timeline and intended outcomes for achieving the goals outlined in the scope for the first year;

iii. The existing and future capacity of the organization to address the issues outlined in the proposal and the organization's ability to implement goals and objectives;

iv. A detailed plan for communication, technical assistance, and outreach at the State and local levels;

v. A plan to work with stakeholders and build partnerships at the national level and;

vi. Staff qualifications, including: (1) Prior experience providing technical assistance, especially related to transportation for people with disabilities and older adults, (2) prior experience implementing the other tasks outlined in this solicitation, (3) staff members' knowledge of issues related to transportation for people with disabilities and older adults, and (4) a one-page biographical sketch for each staff member.

e. Plan for evaluation of NADTC technical assistance center activities and performance measures (not to exceed 5 pages).

f. Supplemental materials, such as bios and letters of support, can be included in an appendices section that is beyond the page limit above but are not to exceed 15 additional pages.

3. Unique Entity Identifier and System for Award Management (SAM)

Each applicant is required to: (1) Register in SAM before applying; (2) provide a valid unique SAM entity identifier in its application; and (3) continue to maintain an active SAM registration with current information, during which the applicant has an active Federal award or an application or plan under consideration by FTA. These requirements do not apply if the applicant: (1) Is excepted from the requirements under 2 CFR 25.110(b) or (c); or (2) has an exception approved by FTA under 2 CFR 25.110(d). The FTA may not make an award until the applicant has complied with all applicable unique entity identifier and SAM requirements. If an applicant has not fully complied with the requirements by the time FTA is ready to make an award, FTA may determine that the applicant is not qualified to receive an award and use that determination as a basis for making a Federal award to another applicant. SAM registration takes approximately 3-5 business days, but FTA recommends allowing ample time, up to several weeks, for completion of all steps. For additional information on obtaining a unique entity identifier, please visit https://www.sam.gov/SAM/pages/public/index.jsf.

4. Submission Dates and Times

Project proposals must be submitted electronically through GRANTS.GOV and must be received by 11:59 p.m. Eastern time on July 2, 2020. GRANTS.GOV attaches a time stamp to each application at the time of submission. Proposals submitted after the deadline will be considered only under extraordinary circumstances not under the applicant's control. Mail and fax submissions will not be accepted.

Within 48 hours after submitting an electronic application, the applicant should receive two email messages from GRANTS.GOV: (1) Confirmation of successful transmission to GRANTS.GOV, and (2) confirmation of successful validation by GRANTS.GOV. If confirmations of successful validation are not received or a notice of failed validation or incomplete materials is received, the applicant must address the reason for the failed validation, as described in the email notice, and resubmit before the submission deadline.

If making a resubmission for any reason, include all original attachments regardless of which attachments were updated and check the box on the supplemental form indicating this is a resubmission.

The FTA urges applicants to submit proposals at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registration up to date before submissions can be made successfully: (1) Registration in SAM is renewed annually; and (2) persons making submissions on behalf of the Authorized Organization Representative (AOR) must be authorized in GRANTS.GOV by the AOR to make submissions. To register and for detailed instructions, please see the “APPLICANTS” tab in GRANTS.GOV (https://www.grants.gov/web/grants/applicants.html).

To be eligible to apply for this opportunity, organizations must have a Data Universal Numbering System (DUNS) Number, active System for Award Management (SAM) registration, and an established GRANTS.GOV account. DUNS and SAM registrations may take several weeks. Therefore, an organization's registration should be done in sufficient time to ensure it does not impact the entity's ability to meet required application submission deadlines. Complete organization instructions can be found on GRANTS.GOV: https://www.grants.gov/web/grants/applicants/organization-registration.html.

5. Funding Restrictions

This award is subject to the governmentwide Uniform Cost Principles for Federal Awards at 2 CFR part 200, subpart E.

6. Other Submission Requirements

Detailed instructions on application and submission requirements are found under “Section D, Application and Submission Requirements” of this notice. Project proposals must be submitted electronically through GRANTS.GOV by 11:59 p.m. Eastern Daylight Time on July 2, 2020. Late applications will not be accepted. Mail and fax submissions will not be accepted.

E. Application Review Information

1. Criteria

The FTA will evaluate proposals based on each applicant's response to the following criteria: (1) Methodology to Meet the Goals of the NADTC; (2) Qualifications of Key Personnel, Experience, and Knowledge; (3) Communication, Technical Assistance, and Outreach Strategy; (4) Technical, Legal, and Financial Capacity; (5) Ability to Work with Stakeholders and Build Partnerships at the National Level; and (6) Plan to Evaluate the NADTC activities. The criteria are explained below:

a. Methodology To Meet the Goals of the National Aging and Disability Transportation Center

The FTA is seeking innovative and effective approaches and strategies to accomplish the project objectives. Proposals will be evaluated based on the proposed methodology for addressing the goals and objectives of the NADTC, as well as the capacity of the organization to address the issues outlined in the proposal. The proposal should clearly explain the objectives, activities, deliverables, milestones, timelines and intended outcomes for achieving the goals outlined in the scope for the first year, and how the organization intends to implement them.

b. Qualifications of Key Personnel, Experience, and Knowledge

The proposal should demonstrate that key personnel have the appropriate skills and experience to carry out the activities. The FTA will evaluate the qualifications and experience of the key staff detailed in the proposal for their: (1) Prior experience providing technical assistance, especially related to transportation for people with disabilities and older adults, (2) prior experience implementing the other tasks outlined in this solicitation, and (3) knowledge of issues related to transportation for people with disabilities and older adults.

c. Communication, Technical Assistance, and Outreach Strategy

The proposal should demonstrate the ability to execute a technical assistance program with a national scope, as well as strategies for delivering targeted assistance to State, regional, and local stakeholders. Proposing organizations are encouraged to think innovatively about this technical assistance delivery.

The proposal should also demonstrate the ability to carry out outreach, dissemination, and information management activities. These activities will include capturing and sharing useful and best practices in the delivery of Coordinated Human Services Transportation Services, serving the targeted population of older adults and people with disabilities. The proposal should demonstrate innovative approaches, such as the use of communication that is accessible through social media and other information technologies, to manage, plan, and deliver effective technical assistance strategies to stakeholders. Coordination of services for the targeted population is challenging as resources are limited, services are costly, and the population's needs are unique. The proposal should demonstrate effective strategies for providing technical assistance to overcome challenges and address the uniquely unmet needs of the targeted population.

d. Technical, Legal, and Financial Capacity

The proposal must include an effective project management plan to administer and manage the NADTC and must demonstrate that the applicant has the technical, legal, and financial capacity to carry out the plan. FTA will evaluate the applicant's:

a. Technical capacity to administer and manage the services proposed;

b. Total budget and staffing; and

c. Evidence of understanding of the NADTC mission and comprehensive technical approach to delivering the NADTC.

The proposal should indicate a strong organizational capability to address the issues and activities outlined in the proposal. In addition, the proposal should indicate experience in managing and monitoring sub-recipients and contractors, if any are included in the proposal. The applicant selected must be an eligible recipient for a cooperative agreement with FTA and able to sign the required certifications and assurances. The successful applicant must have no technical, legal or financial issues that would impact its eligibility and authority to apply for and accept FTA funds, or carry out the award's scope of work.

e. Ability To Work With Stakeholders and Build Partnerships at the National Level

The proposal must include a plan for effective and meaningful stakeholder engagement. The proposal will be evaluated based on the quality and effectiveness of the plan for engaging and supporting stakeholder engagement to drive the activities of the NADTC.

f. Plan To Evaluate the NADTC Activities

FTA will evaluate the effectiveness of proposed performance measures and the plan for collecting and reporting on data related to the NADTC's products, activities, and outcomes.

2. Review and Selection Process

A technical evaluation committee made up of FTA staff will evaluate proposals based on the published evaluation criteria outlined in this notice (refer to Section E). The technical evaluation committee will advise the FTA Administrator.

The final award decision will be made by the FTA Administrator. In making this decision, the Administrator will take into consideration:

a. Recommendations of the review panel;

b. past performance of the applicant regarding programmatic and grants management compliance;

c. the reasonableness of the estimated cost to the government considering the available funding and anticipated results; and

d. the likelihood that the proposed project will result in the technical assistance outcomes expected.

3. Responsibility Review

FTA is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FTA will consider any comments by the applicant, in addition to the other information in the designated integrity and performance system, in making a judgment about the applicant's integrity, business ethics, and record of performance under Federal awards when completing the review of risk posed by applicants as described in 2 CFR 200.205 Federal awarding agency review of risk posed by applicants.

F. Federal Award Administration Information

1. Federal Award Notices

The FTA will notify the successful organization and may announce the selection on its website https://www.transit.dot.gov. Following notification, the successful entity will be required to submit its application through the FTA Transit Award Management System (TrAMS). The FTA will work with the successful applicant to develop a detailed Statement of Work and may require modifications to the proposal before a cooperative agreement is awarded. The FTA will award and manage the cooperative agreement through TrAMS.

2. Administrative and National Policy Requirements

(a) Grant Requirements.

Award will be made under FTA's Section 5314 program, and the successful applicant will adhere to the customary FTA cooperative agreement requirements of the Section 5314 Program. Assistance regarding these requirements is available from FTA.

(b) The selection of a cooperative agreement recipient under this NOFO will go through the Congressional notification and release process.

(c) Standard Assurances.

The applicant assures that it will comply with all applicable Federal statutes, regulations, executive orders, FTA circulars, and other Federal administrative requirements in carrying out any project supported by the FTA cooperative agreement. The applicant acknowledges that it is under a continuing obligation to comply with the terms and conditions of the cooperative agreement issued for its project with FTA. The applicant understands that Federal laws, regulations, policies, and administrative practices might be modified from time to time and that modifications may affect the implementation of the project. The applicant agrees that the most recent Federal requirements will apply to the project, unless FTA issues a written determination otherwise. The applicant must submit the Certifications and Assurances before receiving a cooperative agreement if it does not have current certifications on file.

3. Reporting

Post-award reporting requirements include submission of Federal Financial Reports and Milestone Progress Reports in TrAMS on a quarterly basis. Additional reporting may be required specific to functions outlined in the Statement of Work for NADTC. The recipient may be expected to participate in events or peer networks related to the Section 5310 Program and targeted populations. The Federal Financial Accountability and Transparency Act (FFATA) requires data entry at the FFATA Sub Award Reporting System (http://www.FSRS.gov) for all sub-awards and sub-contracts issued for $25,000 or more, as well as addressing executive compensation for both grantee and sub-award organizations.

Additionally, FTA may evaluate and report on the success of the program. Applicants may be required to provide information for this purpose indicating the need, problem, or opportunity addressed by activities of the program. The national significance and relevance to the public transportation industry must also be clearly demonstrated.

G. Federal Awarding Agency Contact(s)

For further information concerning this notice, please contact the Technical Assistance Center program manager, Elan Flippin, by phone at 202-366-3800, or by email at elan.flippin@dot.gov. A TDD is available for individuals who are deaf or hard of hearing at 800-877-8339.

K. Jane Williams,
Acting Administrator.

[FR Doc. 2020-11846 Filed 6-1-20; 8:45 am]

BILLING CODE P